NATIONAL AERONAUTICS AND SPACE ADMINISTRATION

[Notice (20-016)]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research and technical information relevant to program planning.

DATES: Tuesday, March 17, 2020, 10:00 a.m.-5:15 p.m., Eastern Time.

ADDRESSES: NASA Headquarters, Room 6E40, 300 E Street SW, Washington, DC 20546.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: The meeting will be open to the public up to the capacity of the room. This meeting is also available telephonically and by WebEx. You must use a touch-tone telephone to participate in this meeting. Any interested person may dial the USA toll-free conference number 1-888-769-8716, participant passcode: 6813159, followed by the # sign to participate in this meeting by telephone. The WebEx link is https://nasaenterprise.webex.com/, the meeting number is 907 869 281, and the password is mE38h7RW2h@ (case sensitive). The agenda for the meeting includes the following topics:

—FY 2021 Aeronautics Research Mission Directorate (ARMD) Strategy and Budget Overview

—Small Business Innovation Research (SBIR) Overview

—NASA Aeronautics Facilities

Attendees will be requested to sign a register and to comply with NASA Headquarters security requirements, including the presentation of a valid government-issued identification (i.e., driver's license, passport, etc.) to Security before access to NASA Headquarters. Foreign nationals attending this meeting will be required to provide a copy of their passport and visa in addition to providing the following information no less than 15 days prior to the meeting: Full name; gender; date/place of birth; citizenship; passport information (number, country, telephone); visa information (number, type, expiration date); employer/affiliation information (name of institution, address, country, telephone); title/position of attendee. To expedite admittance, U.S. citizens and Permanent Residents (green card holders) are requested to provide full name and citizenship status no less than 5 working days in advance. Information should be sent to Ms. Irma Rodriguez by fax at (202) 358-4060 or email at irma.c.rodriguez@nasa.gov. For questions, please call Ms. Irma Rodriguez at (202) 358-0984. Attendees will also be required to sign a register prior to entering the meeting room.

Note: As a precaution, individuals returning from China will not be allowed into NASA Headquarters until the 14 days of observation and self-care period has expired, and they are determined not to be infectious. Attendees to the Aeronautics Committee meeting who are returning from China should only participate virtually through the provided dial-in audio and WebEx, until the 14 days of observation and self-care period has expired. It is imperative that the meeting be held on these dates to accommodate the scheduling priorities of the key participants.

Patricia Rausch,
Advisory Committee Management Officer, National Aeronautics and Space Administration.

[FR Doc. 2020-03479 Filed 2-20-20; 8:45 am]

BILLING CODE 7510-13-P